NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Nature McGinn, ACA Permit Officer, Office of Polar Programs, National Science Foundation, 2415 Eisenhower Avenue, Alexandria, VA 22314; 703-292-8030; email: ACApermits@nsf.gov.

SUPPLEMENTARY INFORMATION: On September 12, 2019, the National Science Foundation published a notice in the Federal Register of permit applications received. The permits were issued on October 12, 2019 (2020-002) and October 21, 2019 (2020-001; 2020-003) to:

1. Sarah Airriess, Permit No. 2020-001

2. Paul Ponganis, Permit No. 2020-002

3. Todd D. Anderson, Permit No. 2020-003

Erika N. Davis,
Program Specialist, Office of Polar Programs.

[FR Doc. 2019-23406 Filed 10-25-19; 8:45 am]

BILLING CODE 7555-01-P